FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
TRANSACTIONS GRANTED EARLY TERMINATION—04/29/2002
20020295 | Solvay S.A | Italenergia S.p.A. | Agora, S.p.A.
20020618 | Cintas Corporation | Elifin S.A | Omni Services, Inc.
20020655 | Sun Capital Partners II, LP | Rexam PLC | Rexam PLC
20020669 | NKK Corporation | Kawasaki Steel Corporation | Kawasaki Steel Corporation
20020670 | Kawasaki Steel Corporation | NKK Corporation | NKK Corporation
20020673 | Lincare Inc | Allina Health Systems, Inc | Allina Health Systems, Inc.
20020679 | General Electric Company | Questron Technology, Inc | Questron Technology, Inc.
20020680 | Catholic Health East | Eastern Mercy Health System | Eastern Mercy Health System
20020685 | The Procter & Gamble Company | GMP Companies, Inc | GMP Companies, Inc.
20020695 | Questor Partners Fund II, L.P | Zenith Industrial Corporation (debtor-in-possession) | Zenith Industrial Corporation (debtor-in-possession)
20020696 | Questor Partners Fund II, L.P | Aetna Industrial Corporation (debtor-in-possession) | Aetna Industrial Corporation (debtor-in-possession)
TRANSACTIONS GRANTED EARLY TERMINATION—04/30/2002
20020676 | UBS AG | Danny L. Darby | Collegiate Funding Services, L.L.C.
20020677 | UBS AG | Gary W. Frazier | Collegiate Funding Services, L.L.C.
20020682 | Fleming Companies, Inc | Albertson's Inc | Albertson's Inc.
TRANSACTIONS GRANTED EARLY TERMINATION—05/01/2002
20020663 | The Savage Companies | McMoRan Exploration Co | Freeport-McMoRan Sulphur LLC
20020666 | Mr. K. Rupert Murdoch | Meredith Corporation | Meredith Corporation
20020667 | Meredith Corporation | Mr. K. Rupert Murdoch | Fox Television Stations, Inc.
20020671 | Designs, Inc | Casual Male Corp | Casual Male Corp.
20020672 | IMC Global Inc | McMoRan Exploration Co | Freeport-McMoRan Sulphur LLC
20020678 | E.I. du Pont de Nemours and Company | Liqui-Box Corporation | Liqui-Box Corporation
20020681 | GTCR Fund VII, L.P. | Herbert Simon | MerchantWired, LLC
20020683 | ALLTEL Corporation | CenturyTel, Inc. | Century TelWireless, Inc.
20020691 | SuperValu Inc | Deals—Nothing Over a Dollar, LLC | Deals—Nothing Over a Dollar, LLC
20020646 | Creative Technology Ltd | 3Dlabs Inc., Ltd | 3Dlabs Inc., Ltd.
20020709 | DAKO Cytomation A/S | Cytomation Inc. | Cytomation Inc.
TRANSACTIONS GRANTED EARLY TERMINATION—05/03/2002
20020674 | CIBER, Inc | John A. Krasula | Decision Consultants, Inc.
20020690 | Corinthian Colleges, Inc | Allied Capital Corporation | Wyo-Tech Acquisition Corp.
20020703 | Linsalata Capital Partners Fund IV, L.P. | Eagle & Taylor Company | Eagle & Taylor Company
20020711 | Italenergia S.p.A | Italenergia S.p.A | CanAmera Foods
20020715 | Russell V. Umphenour, Jr | RTM Restaurant Group, Inc | RTM Restaurant Group, Inc.
20020716 | RTM Inc | RTM Holding Company Inc | RTM Holding Company Inc.
20020717 | RTM Holding Company Inc | RTM Inc | RTM Inc.
TRANSACTIONS GRANTED EARLY TERMINATION—05/06/2002
20020689 | NDCHealth Corporation | TechRx Incorporated | TechRx Incorporated
20020692 | TA/Advent VIII, L.P | Ameritrade Holding Corporation | Ameritrade Holding Corporation
20020693 | TA IX L.P | Ameritrade Holding Corporation | Ameritrade Holding Corporation
20020700 | Bain Capital VII Coinvestment Fund | Ameritrade Holding Corporation | Ameritrade Holding Corporation
20020701 | Silver Lake Partners, L.P | Ameritrade Holding Corporation | Ameritrade Holding Corporation
20020708 | CRH plc | Martin Marietta Materials, Inc. | Martin Marietta Materials, Inc.
20020714 | Morgan Stanley Dean Witter & Co | AMR Corporation | AMR Corporation
TRANSACTIONS GRANTED EARLY TERMINATION—05/10/2002
20020686 | Sun Capital Partners II, LP | BMK (debtor-in-possession) | BMK, Inc.
20020712 | Heartland Industrial Partners, L.P | Heartland Industrial Partners, L.P | Newco Holding Company
20020722 | Fleming Companies, Inc | Jupiter Partners, L.P | Core-Mark International, Inc.
20020725 | Santemedia Group Holding S.a.r.l | Vivendi Universal, S.A | MediMedia USA, Inc.
20020726 | Tradescape Corp | E*Trade Group, Inc | E*Trade Group, Inc.
20020732 | Whitney V, L.P | Mark Hughes Family Trust | Herbalife International, Inc.
20020739 | Goense Bounds & Partners A, L.P. | Zinna Family Trust | L&S Plumbing Partnership, Ltd.
20020742 | Cortec Group Fund III, L.P | American Securities Partners II, L.P. | DRL Holdings, Inc.

FOR FURTHER INFORMATION CONTACT: Sandra M. Peay, or Chandra L. Kennedy, Contact Representatives. Federal Trade Commission, Premerger Notification Office, Bureau of Competition, room 303, Washington, DC 20580, (202) 326-3100

By Direction of the Commission.
Donald S. Clark,
Secretary.

[FR Doc. 02-14334 Filed 6-6-02; 8:45 am]

BILLING CODE 6750-01-M